DEPARTMENT OF ENERGY

Federal Energy Regulatory Commission

[Docket No. PT08-1-000]

Southern California Edison Company; Notice of Intent To Prepare An Environmental Impact Statement for the Proposed Devers-Palo Verde No. 2 Transmission Line Project, Request for Comments On Environmental Issues, and Notice of Public Scoping Meetings

June 17, 2008.

The staff of the Federal Energy Regulatory Commission (FERC or Commission) will prepare an environmental impact statement (EIS) that will identify and address the environmental impacts that could result from the construction and operation of the Devers-Palo Verde No. 2 Transmission Line Project (DPV2 or Project). The DPV2 is proposed by Southern California Edison Company (SCE). The Commission will use the EIS in its decision-making process to determine whether or not to authorize the Project. This notice describes the proposed Project facilities and explains the scoping process that will be used to gather input from the public and interested agencies on the project. Your input will help determine the issues that need to be evaluated in the EIS. Please note that the scoping period for the Project will close on August 1, 2008.

Comments on the Project may be submitted in written form or verbally. In lieu of or in addition to sending written comments, you are invited to attend the public scoping meetings that have been scheduled in the Project area. These meetings are scheduled for July 8, 2008 in Quartzsite, Arizona and July 9, 2008 in Phoenix, Arizona. Further instructions on how to submit comments and additional details of the public scoping meetings are provided in the Public Participation section of this notice.

The FERC will be the lead federal agency for the preparation of the EIS and will prepare the document to satisfy the requirements of the National Environmental Policy Act (NEPA). The document will be used by the FERC to consider the environmental impacts that could result from the Commission's use of its supplemental siting authority for interstate transmission lines under section 216 of the Federal Power Act.¹ The NEPA document will address the environmental impacts of proposed facilities for the entire project; however, the Commission's permit review process will be limited solely to the facilities located within the Arizona portion of the proposed project. The California Public Utilities Commission approved the California portion of the facilities on January 25, 2007.

¹ Section 1221of the Energy Policy Act of 2005 amended the Federal Power Act by adding a new Section 216.

It is the FERC's goal that other federal agencies will participate in the environmental review process as cooperating agencies to satisfy their respective NEPA responsibilities. With this notice, we ² are asking federal, state, and local agencies with jurisdiction and/or special expertise with respect to environmental issues and tribal leaders to cooperate formally with us in the preparation of the EIS. These agencies may choose to participate once they have evaluated SCE's proposal relative to their responsibilities. Agencies that intend to request cooperating status should follow the instructions for filing comments described in the Public Participation section of this notice.

² ”We,” “us,” and “our” refer to the environmental staff of the FERC's Office of Energy Projects.

This notice is being sent to affected landowners; federal, state, and local government agencies; elected officials; environmental and public interest groups; Native American tribes; other interested parties; and local libraries and newspapers. We encourage government representatives to notify their constituents of this planned project and encourage them to comment on their areas of concern.

If you are a landowner receiving this notice, you may be contacted by an SCE representative about the acquisition of an easement to construct, operate, and maintain the proposed Project facilities. SCE would seek to negotiate a mutually acceptable agreement. However, if the Project is approved by the FERC, that approval conveys with it the right of eminent domain. Therefore, if easement negotiations fail to produce an agreement and only if the project is approved by FERC, the company could initiate condemnation proceedings in accordance with state law.

A fact sheet prepared by the FERC entitled “A Guide to the Electric Transmission Construction Permit Process” is available for viewing on the FERC Internet Web site (http://www.ferc.gov/industries/electric.asp). This fact sheet addresses a number of typically asked questions, including the use of eminent domain and how to participate in the FERC's proceedings.

Summary of the Proposed Project

SCE proposes to construct a new high-voltage electric transmission line between Maricopa County, Arizona and Riverside County, California. The DPV2 Project consists of 267 miles of new transmission lines which include two primary route segments. The Devers-Harquahala Junction segment is approximately 225 miles long and would extend from SCE's existing Devers Substation, near Palm Springs, California to a new Harquahala Junction Switchyard, approximately 50 miles west of Phoenix, Arizona. The Devers-Valley No. 2 segment would extend approximately 42 miles southwesterly from Devers Substation to SCE's Valley Substation, near Romoland, California. The entire line would be constructed within or adjacent to existing SCE rights-of-way (ROW). Approximately 170 miles of the Project is located in California and 97 miles is located in Arizona.

In addition, SCE proposes to construct a new Harquahala Junction Switchyard in Arizona and an optional Midpoint Substation/Switchyard near Blythe, California; expand and/or modify the existing Devers and Valley Substations; and install two new 500 kilovolt (kV) series capacitor banks, one in Arizona and one in California. The majority of the structures used for the Project would be single circuit lattice steel towers, typically spanning four structures per mile. The average height of these structures would be approximately 150 feet, with heights that would vary according to terrain, environmental conditions and site-specific mitigation requirements. The Midpoint Substation is considered an optional project component; SCE has received a large number of interconnection requests for new renewable and new conventional gas-fired generation in this area. Development of these projects would require construction of the Midpoint Substation. A general overview map of the Project area and facilities is provided in Appendix 1.³

³ The appendices referenced in this notice are not being printed in the Federal Register. Copies of all appendices are available on the Commission's Internet Web site (http://www.ferc.gov) at the “eLibrary” link or from the Commission's Public Reference Room at (202) 502-8371. For instructions on connecting to eLibrary, refer to the Availability of Additional Information section of this notice. Copies of the appendices were sent to all those receiving this notice in the mail. Requests for detailed maps of the proposed facilities should be made directly to SCE by calling 1-866-602-3782.

Specifically, the facilities proposed by SCE include the following:

• Devers-Harquahala Line—construction of approximately 225 miles of new 500 kV, single-circuit alternating current transmission line from near Palm Springs, California to near Phoenix, Arizona.

• Devers-Valley No. 2 Line—construction of approximately 42 miles of new 500 kV, single-circuit alternating current transmission line from near Palm Springs, California, to near Romoland, California.

• Devers Substation Expansion—installation of new 135-foot-high by 90 foot-wide dead-end structures, circuit breakers, and disconnect switches; a 500 kV shunt line reactor and associated disconnect switches; a 500 kV static volt ampere reactive compensator; and two MVAR shunt capacitors.

• Valley Substation Modification—installation of dead-end structures, circuit breakers, and disconnect switches within the existing 500 kV switchrack.

• Harquahala Junction Switchyard—construction of a new 500 kV switchyard facility on a 40 acre site, near Phoenix, Arizona that would include installation of dead-end structures, circuit breakers and disconnect switches within a new 500 kV switchrack.

• Optional Midpoint Substation/Switchyard—construction of a new 500 kV switchyard facility on a 44 acre site, near Blythe, California including installation of buses, circuit breakers and disconnect switches. Also, installation of a new communications facility that would include three new microwave paths and two fiber optic systems, a mechanical-electrical control room and a microwave tower.

• Series Capacitors—installation of two series capacitor banks, one in Arizona and one in California. Major components include series capacitors, dead-end structures, telecommunication equipment, outdoor lighting, grounding grid, and a mechanical-electrical equipment room.

SCE states that the purpose of the Project is to relieve transmission congestion between Arizona and California, provide regional economic benefits to California and Arizona, increase competition among energy suppliers by increasing the electricity market liquidity at the Palo Verde Hub, and provide access to renewable energy. SCE anticipates that construction of the DPV2 Project would begin in February 2010, with a projected in-service date of December 2011.

Land Requirements for Construction

Construction of the proposed electric transmission line and associated facilities would require approximately 4,400 acres of land, including the construction right-of-way, temporary work areas, access roads, storage and contractor yards and substation facilities. Following construction, the majority of the land would be retained as permanent ROW for the transmission line and operation of the substation facility sites.

SCE would construct 150 miles of the proposed Devers-Harquahala 500 kV transmission line within a 130-foot-wide ROW granted by the Bureau of Land Management (BLM). Of this total, 57.2 miles is in California and 92.7 miles is in Arizona. The Devers-Harquahala route on BLM land is entirely within the Utility Corridors designated in BLM's Resource Management Plans. The ROW also includes land managed by the United States Fish and Wildlife Service and the United States Department of Defense. The remainder of the Devers-Harquahala line would cross state, tribal, and private lands. All lands are vacant and undeveloped. The majority of the line would parallel the existing Devers-Palo Verde No. 1 500 kV transmission line.

The Devers-Valley No. 2 transmission line located in California would be constructed about 130 feet south of the existing Devers-Valley No. 1 line. The route would traverse a small portion of the San Bernardino National Forest and the Santa Rosa and San Jacinto Mountains National Monument and is wholly within existing ROWs. The privately-owned lands that the line would cross are primarily unincorporated areas. Portions of the line would be located within undeveloped portions of the Cities of Palm Springs (2.1 miles), Banning (0.5 miles), and Beaumont (0.5 miles).

Construction of the California portion of the DPV2 transmission line would require the expansion of the Devers Substation to the northeast on unimproved land that is already owned by SCE. However, it would not be necessary to expand the Valley Substation in order to accommodate the DPV2 line. Construction of the optional Midpoint Substation would require 44 acres of land and an additional 5 acres for a temporary laydown area to be located at or near the existing roadway at the substation site.

Construction of the proposed new Harquahala Junction Switchyard in Arizona would be on a 40-acre site located in Section 25, Township 2 north, Range 8 West, near 451st Avenue and the Thomas Road alignment. The site is adjacent to the location where the existing DPV1 and Harquahala-Hassayampa 500 kV transmission lines intersect. Construction of the Harquahala Junction Switchyard would require an agreement among SCE, Arizona Public Service Company (APS), and the Harquahala Generating Company to allow APS to connect its planned TS-5 transmission line at the Harquahala Junction Switchyard. SCE does not yet have such an agreement, and as an alternative to the termination at the Harquahala Junction Switchyard, the Devers-Harquahala transmission line could terminate at the Harquahala Generating Station Switchyard, which is located approximately five miles west of the proposed Harquahala Junction Switchyard. Termination at the Harquahala Generating Station Switchyard would require an additional five miles of 500 kV transmission line and 23 new, single circuit tubular steel poles. A 500 kV shunt-line reactor and associated disconnect devices would be installed on generation station property on approximately two acres of property that would be acquired for this purpose.

Installation of the proposed two new 500 kV series capacitor banks would be on BLM land that is adjacent to DPV1 series capacitor banks. The proposed Arizona series capacitor site would be located approximately 55 miles west of the Harquahala Junction Switchyard and would be accessed from the nearby El Paso natural gas pipeline access road. The California series capacitor site would be located approximately 64 miles east of the Devers Substation in the Chuckwalla Valley. Both facilities would occupy approximately two acres inside the fenced site and temporarily use a one-acre fenced area for material laydown, storage, and staging.

The EIS Process

NEPA requires the FERC to take into account the environmental impacts that could result from an action whenever it considers the issuance of a permit to construct electric transmission facilities. The EIS we are preparing is intended to provide FERC and cooperating agencies with the necessary information for consideration during each respective agency's review of potential environmental impacts.

Although no formal application has been filed with the FERC, we have already initiated our NEPA review under the FERC's pre-filing process, which was established in Order No. 689.⁴ The purpose of the pre-filing process is to encourage the early involvement of interested stakeholders and to identify and resolve issues before an application is filed with the FERC. A diagram summarizing the permit review process and opportunities for public participation for the Project is attached to this notice as Appendix 2.

⁴ Regulations for Filing Applications for Permits to Site Interstate Electric Transmission Facilities, Order No. 689, 71 Federal Register 69,440 (December 1, 2006), FERC Statutes & Regulations ¶31,234 (2006) (Final Rule).

The FERC staff has already started to meet and communicate with SCE, jurisdictional agencies, and other interested stakeholders to discuss the Project and identify issues and concerns. We will continue the pre-filing process by conducting interagency and public scoping meetings in the Project area to solicit comments and concerns about the Project.

By this notice, we are formally announcing our intent to prepare an EIS and request additional agency and public comments to help us focus the analysis in the EIS on the potentially significant environmental issues related to the proposed action. If you provide comments at a scoping meeting, you do not need to resubmit the same comments in response to this notice.

Our independent analysis of the issues will be included in a draft EIS. The draft EIS will be mailed to federal, state, and local government agencies; elected officials; environmental and public interest groups; Native American tribes; affected and potentially affected landowners; other interested parties; local libraries and newspapers; and the FERC's official service list for this proceeding. A 45-day comment period will be allotted for review of the draft EIS. We will consider all timely comments on the draft EIS and revise the document, as necessary, before issuing a final EIS. The comment period on the draft EIS will be coordinated, to the extent possible, with other jurisdictional agencies.

Currently Identified Environmental Issues

The EIS will discuss impacts that could occur as a result of the construction and operation of the proposed Project. We have already identified a number of issues and alternatives that we think deserve attention based on a preliminary review of the proposed facilities, and the environmental information provided by SCE. This preliminary list of issues and alternatives may be changed based on your comments and our additional analysis.

• Geology and Soils:

○ Erosion and sedimentation control.

○ Assessment of invasive weed control plans.

○ Right-of-way restoration.

• Water Resources:

○ Effect of transmission line crossings on perennial and intermittent waterbodies, including the Colorado River.

○ Assessment of alternative waterbody crossing methods.

• Fish, Wildlife, and Vegetation:

○ Effect on coldwater and sensitive fisheries.

○ Effect on wildlife resources and their habitat.

○ Effect on birds.

• Special Status Species:

○ Potential effect on federally listed species.

○ Potential effect on state-listed sensitive species.

○ Potential effect on Big Horn sheep.

• Cultural Resources:

○ Potential effect on historic and prehistoric sites.

○ Native American and tribal concerns.

• Land Use, Recreation and Special Interest Areas, and Visual Resources:

○ Impacts on recreational and residential areas.

○ Visual impacts.

• Socioeconomics:

○ Effects on transportation and traffic.

○ Effects of construction workforce demands on public services and temporary housing.

• Air Quality and Noise:

○ Effects on the local air quality and noise environment from construction and operation of the proposed facilities.

• Reliability and Safety:

○ Assessment of hazards associated with electric transmission lines.

• Alternatives:

○ Assessment of alternative configurations and alternative routes to reduce or avoid environmental impacts.

○ Assessment of alternative substation locations.

• Cumulative Impact:

○ Assessment of the effect of the proposed Project when combined with other past, present, or future actions in the same region.

Public Participation

You can make a difference by providing us with your specific comments or concerns about SCE's proposal. By becoming a commentor, your concerns will be addressed in our EIS and considered during the NEPA review. Your comments should focus on the potential environmental effects, reasonable alternatives, and measures to avoid or lessen the environmental impact. The more specific your comments, the more useful they will be.

To expedite our receipt and consideration of your comments, the Commission strongly encourages electronic submission of any comments on this Project. See Title 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text-only comments on a project. The Quick-Comment User Guide can be viewed at http://www.ferc.gov/docs-filing/efiling/quick-comment-guide.pdf.

Quick Comment does not require a FERC eRegistration account; however, you will be asked to provide a valid e-mail address. All comments submitted under either eFiling or the Quick Comment option are placed in the public record for the specified docket or project number(s). The Docket Number for the DPV2 Project is PT08-1-000. Your comments must be submitted electronically by August 1, 2008.

If you wish to mail comments, please mail your comments so that they will be received in Washington, DC on or before August 1, 2008 and carefully follow these instructions:

Send an original and two copies of your letter to:

• Kimberly D. Bose, Secretary, Federal Energy Regulatory Commission, 888 First St. NE.; Room 1A, Washington, DC 20426;

• Label one copy of your comments for the attention of OEP/EIPG; and

• Reference Docket No. PT08-1-000 on the original and both copies.

Once SCE formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Two public scoping meetings have been scheduled in the Project area to provide another opportunity to offer comments on the proposed Project. Interested groups and individuals are encouraged to attend the meetings and to present comments on the environmental issues they believe should be addressed in the EIS. A transcript of the meetings will be generated so that your comments will be accurately recorded. Meetings will be held at the following locations:

Date | Location
July 8, 2008 (7-10 pm) | Quartzsite Elementary School, 930 W. Quail Trail, Quartzsite, AZ 85346, Tel: (928) 927-5500.
July 9, 2008 (7-10 pm) | Best Western Central Phoenix Inn, 1100 N. Central Avenue, Phoenix, AZ 85004, Tel: (602) 252-2100.

Environmental Mailing List

Everyone who responds to this notice or provides comments throughout the EIS process will be retained on the mailing list. If you do not want to send comments at this time but still want to stay informed and receive copies of the draft and final EISs, you must return the Mailing List Retention Form (Appendix 3). If you do not send comments or return the Mailing List Retention Form asking to remain on the mailing list, you will be taken off the mailing list.

Availability of Additional Information

Additional information about the Project is available from the Commission's Office of External Affairs at 1-866-208 FERC or on the FERC Internet Web site (http://www.ferc.gov) using the “eLibrary” link. Click on the eLibrary link, click on “General Search,” and enter the docket number excluding the last three digits in the Docket Number field (i.e., PT08-1). Be sure you have selected an appropriate date range. For assistance, please contact FERC Online Support at FercOnlineSupport@ferc.gov or toll free at 1-866-208-3676, or for TTY, contact (202) 502-8659. The eLibrary link on the FERC Internet Web site also provides access to the texts of formal documents issued by the Commission, such as Orders, notices, and rule makings.

In addition, the FERC offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

To request additional information on the proposed Project or to provide comments directly to the Project sponsor, you can contact SCE by calling toll free at 1-866-602-3782. Also, SCE has established an Internet Web site at http://www.sce.com/dpv2. The Web site includes a description of the Project, an overview map of the proposed electric transmission route, and links to related documents. SCE will update the Web site as the environmental review of its Project proceeds.

Kimberly D. Bose,
Secretary.

[FR Doc. E8-14284 Filed 6-24-08; 8:45 am]

BILLING CODE 6717-01-P